DEPARTMENT OF HOUSING AND URBAN DEVELOPMENT

[Docket No. FR-4591-N-01]

Notice of Regulatory Waiver Requests Granted for the First Quarter of Calendar Year 2000

AGENCY: Office of the Secretary, HUD.

ACTION: Public Notice of the granting of regulatory waivers from January 1, 2000 through March 31, 2000.

SUMMARY: Section 106 of the Department of Housing and Urban Development Reform Act of 1989 (the “HUD Reform Act”), requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on January 1, 2000 and ending on March 31, 2000.

FOR FURTHER INFORMATION CONTACT: For general information about this notice, contact Camille E. Acevedo, Assistant General Counsel for Regulations, Room 10276, Department of Housing and Urban Development, 451 Seventh Street, SW., Washington, DC 20410; telephone (202) 708-3055 (this is not a toll-free number). Hearing or speech-impaired persons may access this number via TTY by calling the toll-free Federal Information Relay Service at 1-800-877-8391.

For information concerning a particular waiver action for which public notice is provided in this document, contact the person whose name and address is set out for the particular item, in the accompanying list of waiver-grant actions.

SUPPLEMENTARY INFORMATION: As part of the Housing and Urban Development Reform Act of 1989 (the “HUD Reform Act”), the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request;

e. State how additional information about a particular waiver grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from January 1, 2000 through March 31, 2000. Additionally, this notice contains two reports of regulatory waivers granted during December 1999 by the Office of Housing, but which were inadvertently not included in HUD's Federal Register notice of waiver grant activity from October 1, 1999, to December 31, 1999.

For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement in title 24 that is being waived as part of the waiver-grant action. For example, a waiver of both § 58.73 and § 58.74 would appear sequentially in the listing under § 58.73.

Waiver-grant actions involving the same initial regulatory citation are in time sequence beginning with the earliest-dated waiver grant action.

Should HUD receive additional reports of waiver actions taken during the period covered by this report before the next report is published, the next updated report will include these earlier actions, as well as those that occurred between April 1, 2000 through June 30, 2000.

Accordingly, information about approved waiver requests pertaining to HUD regulations is provided in the Appendix that follows this notice.

Dated: July 12, 2000.
Andrew Cuomo,
Secretary.

Appendix

Listing of Waivers of Regulatory Requirements Granted by Offices of the Department of Housing and Urban Development January 1, 2000 through March 31, 2000

Note to Reader: More information about the granting of these waivers, including a copy of the waiver request and approval, may be obtained by contacting the person whose name is listed as the contact person directly before each set of waivers granted.

The regulatory waivers granted appear in the following order:

I. Regulatory Waivers granted by the Office of Community Planning and Development.

II. Regulatory Waivers granted by the Office of Housing.

III. Regulatory Waivers granted by the Office of Multifamily Housing Assistance Restructuring.

IV. Regulatory Waivers granted by the Office of Public and Indian Housing.

I. Regulatory Waivers Granted by the Office of Community Planning and Development

For further information about the following waiver actions, contact: Cornelia Robertson-Terry, Office of Community Planning and Development, Department of Housing and Urban Development, 451 Seventh Street, SW, Room 7152, Washington, DC 20410; telephone (202) 708-2565 (this is not a toll-free number). Hearing or speech-impaired persons may access this number via TTY by calling the toll-free Federal Information Relay Service at 1-800-877-8391.

• Regulation: 24 CFR 91.520(a).

Project/Activity: The City of Fayetteville, Arkansas requested a waiver of the submission deadline for the City's FY 2000 program year performance report.

Nature of Requirement: HUD's regulation at 24 CFR 91.520(a) requires each grantee to submit a performance report to HUD within 90 days after the close of the grantee's program year.

Granted By: Cardell Cooper, Assistant Secretary for Community Planning and Development.

Date Granted: March 28, 2000.

Reasons Waived: The City experienced personnel changes which delayed completion of the report. The City would not be able to submit a complete and accurate expenditure report on its FY 1999 program if the extension is not granted.

• Regulation: 24 CFR 92.2.

Project/Activity: The State of Maine requested a waiver of the definition of housing in the HOME final rule to permit two projects funded with HOME funds for children with disabilities.

Nature of Requirement: The HOME regulation definition at 24 CFR 92.2 states that housing does not include emergency shelters of facilities such as nursing homes, convalescent homes, hospitals residential treatment facilities, correctional facilities and student dormitories.

Granted By: Cardell Cooper, Assistant Secretary for Community Planning and Development.

Date Granted: March 8, 2000.

Reasons Waived: HUD determined that denial of this request would be an undue hardship for the nine disabled children residing in the Meadow Way and Turning Point Farm facilities. These circumstances constitute a good cause for the waiver.

• Regulation: 24 CFR 92.254(a)(5)(ii)(A)(7).

Project/Activity: Delaware County, Pennsylvania, requested a waiver to allow low income buyers of HOME-assisted property to have 48 months to complete the purchase of their homes.

Nature of Requirement: HUD's regulation at 24 CFR 92.254(a)(5)(ii)(A)(7) requires persons participating in HOME's lease-purchase program to purchase their homes within 36 months of signing the lease-purchase agreement.

Granted By: Cardell Cooper, Assistant Secretary for Community Planning and Development.

Date Granted: March 1, 2000.

Reasons Waived: The County stated in its request that due mainly to poor credit ratings and changing financial circumstances for a number of households, it will take 48 months for the lease-purchaser to accumulate sufficient funds and repair their credit ratings before purchase of the properties will become possible. HUD determined that disqualification of these initial program participants would create an undue hardship.

• Regulation: 24 CFR 92.500(d)(1)(c).

Project/Activity: The State of California requested a waiver to allow the State to retain $50,000 of its remaining HOME disaster funds for ongoing program administrative costs, while deobligating the remaining balance of $3,407,153.60 of program funds.

Nature of Requirement: HUD's regulation at 24 CFR 92.500(d)(1)(c) states that HUD will reduce or recapture HOME funds in the HOME Investment Trust Fund by the amount of any funds in the United States Treasury that are not expended within five years after the last day of the month in which HUD notifies the participating jurisdiction of HUD's execution of the HOME Investment Partnership Agreement.

Granted By: Cardell Cooper, Assistant Secretary for Community Planning and Development.

Date Granted: March 28, 2000.

Reasons Waived: HUD determined that deobligation of the entire remaining balance of the State's HOME disaster funds would create a significant hardship. The HOME disaster funds will be used for monitoring and on-site inspection requirements for disaster-related HOME projects. The $50,000 is granted for a period of no more than twelve months. Funds that remain uncommitted at the end of the twelve months will be recaptured by HUD.

• Regulations: 24 CFR 570.200(b)(2).

Project/Activity: The City of Reading, Pennsylvania, requested a waiver of the provision requiring that fees for use of its Civic Center facility be reasonable so as to not preclude its use by low-and moderate-income persons.

Nature of Requirement: HUD's regulation at 24 CFR 570.200(b)(2) requires that fees charged at the facility be reasonable so as not to preclude its use by low-and moderate-income persons.

Granted By: Cardell Cooper, Assistant Secretary for Community Planning and Development.

Date Granted: March 22, 2000.

Reasons Waived: This activity will meet the national objective of elimination or prevention of slums or blight through completion of an urban renewal project originally approved in 1965. HUD never contemplated at that time there would be special provisions related to use of the facility by low-and moderate-income persons. Failure to grant the waiver would be an undue hardship for the City of Reading.

• Regulation: 24 CFR 570.200(h).

Project/Activity: Lexington County, South Carolina requested a waiver to allow the County to use CDBG funds to reimburse costs incurred as a result of preparing the CDBG-specific portions of its first Consolidated Plan.

Nature of Requirement: HUD's regulation at 24 CFR 570.200(h)(1)(i) states that a grantee may only use CDBG funds to reimburse for pre-award costs if, among other things, the activity for which the costs are being incurred is included in a Consolidated Plan or an amended Consolidated Plan Action Plan prior to the costs being incurred.

Granted By: Cardell Cooper, Assistant Secretary for Community Planning and Development.

Date Granted: January 4, 2000.

Reasons Waived: The November 1995 revision to the CDBG pre-award regulations was meant to broaden grantees' authority to use CDBG funds to pay reasonable pre-award costs, but in making that revision, the authorization for new grantees to pay for planning and administrative start-up costs with CDBG funds was inadvertently omitted. This is the first Consolidated Plan for the County. Failure to grant the requested waiver would result in undue hardship.

• Regulation: 24 CFR 570.200(h).

Project/Activity: The City of Opelika, Alabama, requested a waiver to allow the City to use CDBG funds to reimburse costs incurred as a result of preparing the CDBG-specific portions of its first Consolidated Plan.

Nature of Requirement: HUD's regulation at 24 CFR 570.200(h)(1)(i) states that a grantee may only use CDBG funds to reimburse for pre-award costs if, among other things, the activity for which the costs are being incurred is included in a Consolidated Plan or an amended Consolidated Plan Action Plan prior to the costs being incurred.

Granted By: Cardell Cooper, Assistant Secretary for Community Planning and Development.

Date Granted: February 2, 2000.

Reasons Waived: The November 1995 revision to the CDBG pre-award regulations was meant to broaden grantees' authority to use CDBG funds to pay reasonable pre-award costs, but in making that revision, the authorization for new grantees to pay for planning and administrative start-up costs with CDBG funds was inadvertently omitted. This is the first Consolidated Plan for the City. Failure to grant the requested waiver would result in undue hardship.

• Regulation: 24 CFR 570.200(h).

Project/Activity: The City of Corvallis, Oregon, requested a waiver to allow the City to use CDBG funds to reimburse costs incurred as a result of preparing the CDBG-specific portions of its first Consolidated Plan.

Nature of Requirement: HUD's regulation at 24 CFR 570.200(h)(1)(i) states that a grantee may only use CDBG funds to reimburse for pre-award costs if, among other things, the activity for which the costs are being incurred is included in a Consolidated Plan or an amended Consolidated Plan Action Plan prior to the costs being incurred.

Granted By: Cardell Cooper, Assistant Secretary for Community Planning and Development.

Date Granted: February 3, 2000.

Reasons Waived: The November 1995 revision to the CDBG pre-award regulations was meant to broaden grantees' authority to use CDBG funds to pay reasonable pre-award costs, but in making that revision, the authorization for new grantees to pay for planning and administrative start-up costs with CDBG funds was inadvertently omitted. This is the first Consolidated Plan for the City. Failure to grant the requested waiver would result in undue hardship.

• Regulation: 24 CFR 576.21(b)(2).

Project/Activity: The City of Boston requested a waiver of the 30 percent Emergency Shelter Grant Program spending limitation on essential services.

Nature of Requirement: HUD's regulation in 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: February 17, 2000.

Reasons Waived: The City stated in its request that the reallocated funds would be used to provide short term hotel/motel accommodations for homeless families who are not immediately eligible for state-funded emergency shelter. The City also certified that other eligible activities under the program are being carried out in the locality with other resources.

• Regulation: 24 CFR 576.21(b)(2).

Project/Activity: The City of Niagara Falls, New York, requested a waiver of the Emergency Shelter Grant Program 30 percent spending limitation on essential services.

Nature of Requirement: HUD's regulation at 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development,

Date Granted: February 22, 2000.

Reasons Waived: The City stated in its request that since the inception of its Emergency Shelter Grant program, the City provided funding to homeless services providers in the form of rehabilitation assistance for the renovation and/or expansion of emergency shelters. Therefore, the City is requesting the waiver of the essential services spending limitation so that 100 percent of the City's FY 2000 ESG grant can be spent on essential services.

• Regulation: 24 CFR 582.105(e).

Project/Activity: The Housing Authority for the City of Santa Barbara, California, requested a waiver of the eight percent administrative cap on its Shelter Plus Care grant.

Nature of Requirement: HUD's regulation at 24 CFR 582.105(e) establishes a cap of eight percent of a Shelter Plus Care grant for administrative costs.

Granted By: Cardell Cooper, Assistant Secretary for Community Planning and Development.

Date Granted: February 17, 2000.

Reasons Waived: In this case, at the request of the Housing Authority, in order to provide administrative coverage during the extension period, the administrative cap was waived to allow it to be raised proportionately to the time needed to spend out the funds. With the granting of the waiver, the Housing Authority will be able to continue to administer the grant with no additional funds and serve additional persons within the existing grant award. Therefore, 11% of the grant funds may be expended for administrative costs.

II. Regulatory Waivers Granted by the Office of Housing

A. For further information about the following waiver action, contact: Willie Spearmon, Director, Office of Business Products, Department of Housing and Urban Development, 451 Seventh Street SW, Washington, DC 20410-7000, telephone (202) 708-3000. Hearing or speech-impaired persons may access this number via TTY by calling the Federal Information Relay Service at 1-800-877-8391.

• Regulation: 24 CFR 200.54(a).

Project/Activity: Kimberly Court Apartments, Atlanta, Georgia, Project Number: 061-35503. Request for project completion funding.

Nature of Requirement: HUD's regulation at 24 CFR 200.54(a) provides that for project completion funding, an agreement acceptable to the Commissioner shall require that funds provided by the mortgagor under the requirements of § 200.54 must be disbursed in full for project work, material, and incidental charges and expenses before disbursement of any mortgage proceeds, except for the funds described in § 200.54(b).

Granted By: William C. Apgar, Assistant Secretary for Housing-Federal Housing Commissioner.

Date Granted: December 29, 1999.

Reason Waived: A waiver of the requirement that 100 percent of the tax credit equity be funded before disbursement of mortgage proceeds will result in the lowest interest rate on the FHA-insured loan.

B. For further information about the following waiver actions, contact: Joy L. Hadley, Director, Quality Assurance Division, Office of Housing, Department of Housing and Urban Development, 451 Seventh Street SW, Washington, DC 20410-7000, telephone (202) 708-2830. Hearing or speech-impaired persons may access this number via TTY by calling the Federal Information Relay Service at 1-800-877-8391.

• Regulation: 24 CFR 202.3(c)(2)(iii).

Project/Activity: FHA Title II mortgagees. To raise the threshold for placing a HUD/FHA approved lender on Credit Watch status when its default and claim rate exceeds the HUD Field Office default and claim rate.

Nature of Requirement: HUD's regulation at 24 CFR 202.3(c)(2)(iii) provides that the Secretary may notify a mortgagee that it is on credit watch status if the mortgagee had a rate of defaults and claims on insured mortgages originated in an area which exceeded 150 percent, but not 200 percent, of the normal rate.

Granted By: William C. Apgar, Assistant Secretary for Housing-Federal Housing Commissioner.

Date Granted: January 12, 2000.

Reason Waived: Waiving the regulation permits HUD/FHA to initially focus on those lenders originating the worst performing loans. The waiver will adjust the Credit Watch threshold from being between 150% and 200.9% of the HUD Field Office default and claim rate to being between 200% and 300.9% of that rate. This waiver is limited to Credit Watch reviews conducted in the fourth quarter of FY 1999.

• Regulation: 24 CFR 202.3(c)(2)(iii).

Project/Activity: FHA Title II mortgagees. To raise the threshold for placing a HUD/FHA approved lender on Credit Watch status when its default and claim rate exceeds the HUD Field Office default and claim rate.

Nature of Requirement: HUD's regulation at 24 CFR 202.3(c)(2)(iii) provides that the Secretary may notify a mortgagee that it is on credit watch status if the mortgagee had a rate of defaults and claims on insured mortgages originated in an area which exceeded 150 percent, but not 200 percent, of the normal rate.

Granted By: William C. Apgar, Assistant Secretary for Housing-Federal Housing Commissioner.

Date Granted: March 31, 2000.

Reason Waived: Waiving the regulation permits HUD/FHA to initially focus on those lenders originating the worst performing loans. The waiver will adjust the Credit Watch threshold from being between 150% and 200.9% of the HUD Field Office default and claim rate to being between 200% and 300.9% of that rate. This waiver is limited to Credit Watch reviews conducted in the first quarter of FY 2000.

C. For further information about the following waiver action, contact: Vance T. Morris, Director, Office of Single Family Product Development, Department of Housing and Urban Development, Room 9266, 451 Seventh Street SW, Washington, DC 20410; telephone (202) 708-2121. Hearing or speech-impaired persons may access this number via TTY by calling the Federal Information Relay Service at 1-800-877-8391.

• Regulation: 24 CFR 203.49(c).

Project/Activity: Mortgagee, Homeside Lending, Incorporated, Jacksonville, Florida, requested waiver of the requirements to extend the initial adjustment dates for adjustable rate mortgage loan (ARM) loans beyond the 12 to 18 month window currently provided for in the regulation.

Nature of Requirement: HUD's regulation at 24 CFR 203.49(c) provides that lenders may extend the initial interest rate adjustment dates on ARM loans thus rendering the loans eligible for placement in Ginnie Mae pools. Ineligibility of the loans for delivery to Ginnie Mae would result in financial hardship to the mortgagee and will not have an adverse impact on any mortgagors.

Granted By: William C. Apgar, Assistant Secretary for Housing-Federal Housing Commissioner.

Date Granted: March 2, 2000.

Reasons Waived: Mortgagee, Homeside Lending, Incorporated, requested an extension of the initial change date for an ARM loan beyond the 12-18 month window period as required by 24 CFR 203.49(c). Approving the waiver enabled the lender to securitize the loans and rendered no harm to the borrowers or the Department.

D. For further information about the following waiver actions, contact: Willie Spearmon, Director, Office of Business Products, Department of Housing and Urban Development, 451 Seventh Street SW, Washington, DC 20410-7000, telephone (202) 708-3000. Hearing or speech-impaired persons may access this number via TTY by calling the Federal Information Relay Service at 1-800-877-8391.

• Regulation: 24 CFR 200.54(a).

Project/Activity: Kimberly Court Apartments, Atlanta, Georgia, Project Number: 061-35503. Request for project completion funding.

Nature of Requirement: HUD's regulation at 24 CFR 200.54(a) provides that for project completion funding, an agreement acceptable to the Commissioner shall require that funds provided by the mortgagor under the requirements of § 200.54 must be disbursed in full for project work, material, and incidental charges and expenses before disbursement of any mortgage proceeds, except for the funds described in § 200.54(b).

Granted By: William C. Apgar, Assistant Secretary for Housing-Federal Housing Commissioner.

Date Granted: December 29, 1999.

Reason Waived: A waiver of the requirement that 100 percent of the tax credit equity be funded before disbursement of mortgage proceeds will result in the lowest interest rate on the FHA-insured loan.

• Regulation: 24 CFR 891.100(d).

Project/Activity: Riley Cheeks House, Washington, DC, Project Number: 000-HD030/DC39-Q961-001.

Nature of Requirement: HUD's regulation at 24 CFR 891.100(d) prohibits amendment of the amount of approved capital advance funds prior to initial closing.

Granted By: William C. Apgar, Assistant Secretary-Federal Housing Commissioner.

Date Granted: January 3, 2000.

Reason Waived: Additional funds were needed for increased construction costs due to the project being 100% accessible, and features required for compliance with neighborhood compatibility. The project is comparable to a similar project, does not feature any excessive features, and the Sponsor cannot raise any additional funds nor do they have the capacity to provide funds.

• Regulation: 24 CFR 891.100(d).

Project/Activity: Lenore Street Senior Housing, Willits, California, Project Number: 121-EE107/CA-S971-006.

Nature of Requirement: HUD's regulation at 24 CFR 891.100(d) prohibits amendment of the amount of approved capital advance funds prior to initial closing.

Granted By: William C. Apgar, Assistant Secretary for Housing-Federal Housing Commissioner.

Date Granted: January 14, 2000.

Reason Waived: The original contractor could not honor the proposed costs that HUD had based its Firm Commitment processing on, and the Sponsor had to rebid the contract.

• Regulation: 24 CFR 891.100(d).

Project/Activity: Citrus Gardens, Orlando, Florida, Project Number: 067-EE082/FLF29-S971-008.

Nature of Requirement: HUD's regulation at 24 CFR 891.100(d) prohibits amendment of the amount of approved capital advance funds prior to initial closing.

Granted By: William C. Apgar, Assistant Secretary for Housing-Federal Housing Commissioner.

Date Waived: January 19, 2000.

Reason Waived: Additional funds were needed due to an increase in impact fees by the City of Orlando.

• Regulation: 24 CFR 891.100(d).

Project/Activity: Centerburg Place, Columbus, Ohio, Project Number: 043-EE056/OH16-S971-002.

Nature of Requirement: HUD's regulation at 24 CFR 891.100(d) prohibits amendment of the amount of approved capital advance funds prior to initial closing.

Granted By: William C. Apgar, Assistant Secretary-Housing Federal Housing Commissioner.

Date Granted: January 19, 2000.

Reason Waived: The Sponsor/Owner made every attempt to secure additional funding from outside sources, the project is modest in design and is comparable to similar projects in the area.

• Regulation: 24 CFR 891.100(d).

Project/Activity: Nutley Senior Housing, Inc., Nutley, New Jersey, Project Number: 031-EE025/NJ39-S941-003.

Nature of Requirement: HUD's regulation at 24 CFR 891.100(d) prohibits amendment of the amount of approved capital advance funds prior to initial closing.

Granted By: William C. Apgar, Assistant Secretary for Housing-Federal Housing Commissioner.

Date Granted: January 19, 2000.

Reason Waived: The project is economically designed, comparable to other similar projects developed in the area, and the Owner has exhausted all efforts to provide additional funds from other sources.

• Regulation: 24 CFR 891.100(d).

Project/Activity: Melrose Villa Hermosa, Bronx, New York, Project Number: 012-EE124/NY36-S041-017.

Nature of Requirement: HUD's regulation at 24 CFR 891.100(d) prohibits amendment of the amount of approved capital advance funds prior to initial closing.

Granted By: William C. Apgar, Assistant Secretary for Housing-Federal Housing Commissioner.

Date Granted: February 8, 2000.

Reason Waived: The project had to comply with local design modifications which increased costs. The Sponsor does not have the financial capacity to fund the increase.

• Regulation: 24 CFR 891.100(d).

Project/Activity: Coosa Valley Apartments, Sylacauga, Alabama, Project Number: 062-EE043/AL09-S981-005.

Nature of Requirement: HUD's regulation at 24 CFR 891.100(d) prohibits amendment of the amount of approved capital advance funds prior to initial closing.

Granted By: William C. Apgar, Assistant Secretary for Housing-Federal Housing Commissioner.

Date Granted: March 2, 2000.

Reason Waived: Although the Owner has tried to reduce the construction costs, and the project is comparable to similar projects, amendment funds are needed to develop this project. The Owner has contributed substantially to the project development cost.

• Regulation: 24 CFR 891.100(d).

Project/Activity: Royale Gardens, Chicago, Illinois, Project Number: 071-EE125/IL06-S961-016.

Nature of Requirement: HUD's regulation at 24 CFR 891.100(d) prohibits amendment of the amount of approved capital advance funds prior to initial closing.

Granted By: William C. Apgar, Assistant Secretary for Housing-Federal Housing Commissioner.

Date Granted: March 2, 2000.

Reason Waived: The project is modest in design comparable in costs to other similar projects and Sponsor has exhausted all means of obtaining the funds through other resources.

• Regulation: 24 CFR 891.100(d).

Project/Activity: Rochester VOA Elderly Housing, Rochester, Minnesota, Project Number: 092-EE056/MN45-S981-007.

Nature of Requirement: HUD's regulation at 24 CFR 891.100(d) prohibits amendment of the amount of approved capital advance funds prior to initial closing.

Granted By: William C. Apgar, Assistant Secretary for Housing-Federal Housing Commissioner.

Date Granted: March 2, 2000.

Reason Waived: The project is modest in design, comparable in costs to other similar projects and the Sponsor has exhausted all means of obtaining the funds through other resources.

• Regulation: 24 CFR 891.100(d).

Project/Activity: HIS/Elois McCoy Village Apartments, Chicago, Illinois, Project Number: 071-EE115/IL06-S961-006.

Nature of Requirement: HUD's regulation at 24 CFR 891.100(d) prohibits amendment of the amount of approved capital advance funds prior to initial closing.

Granted By: William C. Apgar, Assistant Secretary for Housing-Federal Housing Commissioner.

Date Granted: March 2, 2000.

Reason Waived: The project is modestly designed, and the Owner has exhausted all efforts to find additional funds from other sources.

• Regulation: 24 CFR 891.100(d).

Project/Activity: St. Mary's Apartments for the Elderly, Waltham, Massachusetts, Project Number: 023-EE077/MA06-S961-013.

Nature of Requirement: HUD's regulation at 24 CFR 891.100(d) prohibits amendment of the amount of approved capital advance funds prior to initial closing.

Granted By: William C. Apgar, Assistant Secretary for Housing-Federal Housing Commissioner.

Date Granted: March 6, 2000.

Reason Waived: Local opposition delayed the project which resulted in the loss of funding from other sources.

• Regulation: 24 CFR 891.100(d).

Project/Activity: Coyne Road, Newton, Massachusetts, Project Number: 023-HD098.

Nature of Requirement: HUD's regulation at 24 CFR 891.100(d) prohibits amendment of the amount of approved capital advance funds prior to initial closing.

Granted By: William C. Apgar, Assistant Secretary for Housing-Federal Housing Commissioner.

Date Granted: March 6, 2000.

Reason Waived: The Sponsor has exhausted all available resources and due to the escalating costs to acquire property in the Boston area.

• Regulation: 24 CFR 891.100(d).

Project/Activity: Landmark House, Nantucket, Massachusetts, Project Number: 023-EE095.

Nature of Requirement: HUD's regulation at 24 CFR 891.100(d) prohibits amendment of the amount of approved capital advance funds prior to initial closing.

Granted By: William C. Apgar, Assistant Secretary for Housing-Federal Housing Commissioner.

Date Granted: March 8, 2000.

Reason Waived: The Sponsor has exhausted all available resources, the project is modestly designed and comparable to similar projects.

• Regulation: 24 CFR 891.100(d).

Project/Activity: AHEPA Daughters of Penelope Elderly Housing, Peabody, Mass., Project Number: 023-EE084;

Family Quarters Housing, Peabody, Mass., Project Number: 023-HDO103;

13th Association, Springfield, Mass., Project Number: 023-HD112,

Florida Street, Springfield, Mass., Project Number: 023-HD125;

Natick Village, Natick, Mass., Project Number: 023-HD133

Nature of Requirement: HUD's regulation at 24 CFR 891.100(d) prohibits amendment of the amount of approved capital advance funds prior to initial closing.

Granted By: William C. Apgar, Assistant Secretary for Housing-Federal Housing Commissioner.

Date Granted: March 8, 2000.

Reason Waived: AHEPA Daughters of Penelope, 023-EE085—The presence of significant historical artifacts caused delays in the development of the project which resulted in increased development costs.

Family Quarters, 023-HD103—A change in contractors due to delays in securing secondary financing resulted in increased costs.

13th Association, 023-HD112—The project is modest in design and the Sponsor is contributing significantly to the project.

Florida Street, 023-HD125—The Sponsor has exhausted all means to find the funds from other sources.

Natick Village (Advocates Incorporated) 023-HD133—The project requires additional funds for project feasibility and the Sponsor has been unable to secure funds from other sources.

• Regulation: 24 CFR 891.100(d).

Project/Activity: Eagle Point, Brewster, Mass., Project Number: 023-DH124.

Nature of Requirement: HUD's regulation at 24 CFR 891.100(d) prohibits amendment of the amount of approved capital advance funds prior to initial closing.

Granted By: William C. Apgar, Assistant Secretary for Housing-Federal Housing Commissioner.

Date Granted: March 8, 2000.

Reason Waived: The Sponsor has exhausted all available resources and additional costs are attributable to the removal of prohibited amenities from the existing structure.

• Regulation: 24 CFR 891.100(d).

Project/Activity: Woodside Village II, Martha's Vineyard, Mass., Project Number: 023—EE087.

Nature of Requirement: HUD's regulation at 24 CFR 891.100(d) prohibits amendment of the amount of approved capital advance funds prior to initial closing.

Granted By: William C. Apgar, Assistant Secretary for Housing-Federal Housing Commissioner.

Date Granted: March 8, 2000.

Reason Waived: The Sponsor has exhausted all available resources and the project is comparable in costs to similar projects and is efficiently designed.

• Regulation: 24 CFR 891.100(d).

Project/Activity: Hillside Village II, Martha's Vineyard, Massachusetts, Project Number: 023-EE086.

Nature of Requirement: HUD's regulation at 24 CFR 891.100(d) prohibits amendment of the amount of approved capital advance funds prior to initial closing.

Granted By: William C. Apgar, Assistant Secretary for Housing-Federal Housing Commissioner.

Date Granted: March 8, 2000.

Reason Waived: The Sponsor has exhausted all available resources and the development costs are comparable to similar projects developed in the area.

• Regulation: 24 CFR 891.100(d).

Project/Activity: California Street, Newton, Massachusetts, Project Number: 023-HD100.

Nature of Requirement: HUD's regulation at 24 CFR 891.100(d) prohibits amendment of the amount of approved capital advance funds prior to initial closing.

Granted By: William C. Apgar, Assistant Secretary for Housing-Federal Housing Commissioner.

Date Granted: March 8, 2000.

Reason Waived: The Sponsor has exhausted all available resources and the cost to development this project is comparable to similar developments in this area.

• Regulation: 24 CFR 891.100(d).

Project/Activity: Eaton Knolls, Central Islip, Suffolk County, New York, Project Number: 012-HD076/NY36-Q971-005.

Nature of Requirement: HUD's regulation at 24 CFR 891.100(d) prohibits amendment of the amount of approved capital advance funds prior to initial closing.

Granted By: William C. Apgar, Assistant Secretary for Housing-Federal Housing Commissioner.

Dated Granted: March 17, 2000.

Reason Waived: The project is economically designed, comparable to other HUD projects developed in the area and all efforts to lower the cost of the project have been exhausted.

• Regulation: 24 CFR 891.100(d) and 891.165.

Project/Activity: Our Lady of Senior Manor, Bronx, New York, Project Number: 012-EE219/NY36-S971-006. Request to use amendment funds prior to initial closing. Request for fund reservation extension.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: January 19, 2000.

Reason Waived: The project was delayed due to the Sponsor encountering difficulties in soliciting a general contractor who could complete the project within the cost limits. The project is modest in design, comparable to similar project and the Sponsor has been unable to secure the funds from other resources.

• Regulation: 24 CFR 891.100(d) and 891.165.

Project/Activity: Castleton Manor, New York, NY, Project Number: 012-EE221/NY36-S971-008. Request to use amendment funds prior to initial closing. Request for fund reservation extension.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: January 24, 2000.

Reason Waived: The project was delayed because the Sponsor had to seek an alternative site when it was discovered that the original site had outstanding tax liens against it. The project is modest in design, comparable to similar projects and the Sponsor has exhausted all means to secure the funds through other resources.

• Regulation: 24 CFR 891.100(d) and 891.165.

Project/Activity: Crockett Senior Housing, Crockett, California, Project Number: 121-EE104/CA39-S971-003. Request to use amendment funds prior to initial closing. Request for fund reservation extension.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary Housing-Federal Housing Commissioner.

Date Waived: March 2, 2000.

Reason Waived: Additional time is needed due to HUD caused delays. Because of these delays the contractor could not honor the originally proposed costs based HUD's Commitment processing.

• Regulation: 24 CFR 891.100(d) and 891.165.

Project/Activity: HIS/Elois McCoy Village Apartments, Chicago, Illinois, Project Number: 071-EE115/IL06-S961-006. Request to use amendment funds prior to initial closing. Request for fund reservation extension.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 2, 2000.

Reason Waived: The project is modestly designed and the owner has exhausted all efforts to find additional funds from other sources. The project experienced delays as it sought secondary financing from the City of Chicago.

• Regulation: 24 CFR 891.165.

Project/Activity: Wynn House, Pasadena, California, Project Number: 122-HDI-1-WDD-NP/CA16-Q971-007. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: December 22, 1999.

Reason Waived: Delays that this project experienced in achieving a construction start have been because the Owner needed additional time to secure funds to meet their cash requirement.

• Regulation: 24 CFR 891.165.

Project/Activity: Request for fund reservation extension by: Zeigler Homes II, Toledo, Ohio, Project Number: 042-HD058/OH12-961-005; Canaan Manor, Dayton, Ohio, Project Number: 046-HD018-Q961-001, Centerburg Place, Centerburg, Ohio, Project Number: 043-EE056/OH16-S971-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: January 3, 2000.

Reason Waiver: Ziegler Homes II experienced delays as Owner tried to resolve unforeseen zoning issues and unacceptable deed restrictions.

Canaan Manor and Centerburg experienced delays due to extensive local government reviews.

• Regulation: 24 CFR 891.165.

Project/Activity: Barbara Chappelle Manor, Grenada, Mississippi, Project Number: 065-EE019/MS26-S961-002. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: January 17, 2000.

Reason Waived: Additional time is needed for the Owner to secure funding for the projects.

• Regulation: 24 CFR 891.165.

Project/Activity: Royale Gardens Residences, Chicago, Illinois, Project Number: 071-EE125/IL06-S961-016. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: January 19, 2000.

Reason Waived: The Sponsor has exhausted all efforts to get funds from other sources. Application for additional funds from the City of Chicago Department of Housing and the State of Illinois Department of Energy are pending.

• Regulation: 24 CFR 891.165.

Project/Activity: The Diocese of Buffalo, Buffalo, New York, Project Number: 014-HD066/NY06-Q971-013. Request for fund reservation extension.

Nature of Requirement: HUD's regulation at 24 CFR 891.165 provides that the duration of the fund reservations for the capital advance is 18 months from the date of issuance with limited exceptions up to 24 months, as approved by HUD on a case-by-case basis.

Date Granted: January 24, 2000.

Reason Waived: The project experienced delays because the Sponsor was forced to seek a replacement site.

• Regulation: 24 CFR 891.165.

Project/Activity: Request for fund reservation extension by: St. Mary's, Waltham, Mass., Project Number: 023-EE077/MA06-S971-005; Hillside Village II, Martha's Vineyard, Mass. Project Number: 023-EE086/MA06-S971-006;

Woodside Village II, Martha's Vineyard, Mass., Project Number: 023-EE087/MA06-S971-007;

Landmark House, Nantucket, Mass., Project Number: 023-EE095/MA06-S971-015;

Coyne Road, Newton, Mass., Project Number: 023-HD098/MA06-Q961-001;

California Street, Newton, Mass., Project Number: 023-HD100/MA06-Q961-006;

Family Quarters, Peabody, Mass., Project Number: 023-HD103/MA06-Q961-006;

13th Association Properties, West Springfield, Mass., Project Number: 023-HD112/MA06-Q961-015;

Lexington Avenue, Somerville, Mass., Project Number: 023-H118/MA06-Q961-021;

Eagle Point, Brewster, Mass., Project Number: 023-HD124/MA06-Q971-005;

Florida Street, Springfield, Mass., Project Number: 023-HD125/MA06-Q971-006;

Advocates, Natick, Mass., Project Number: 023-HD133/MA06-Q971-014.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: January 28, 2000.

Reason Waived: St. Mary's delays were attributed to changes to the Massachusetts Building Code requiring the redrawing of plans and specifications, for zoning variances, and for securing a comprehensive permit.

AHEPA project's site was found to be of archaeological and historical significance and the process of securing approval for development as well as preservation and removal of antiquities caused delays.

Hillside Village II, Woodside Village II, Landmark House—The Sponsors of these projects had a very difficult time finding and keeping general contractors. The Nantucket project also experienced local opposition to federal requirements.

Coyne Road delays occurred because the sponsor needed additional time to acquire other half of the building which is being developed with its own resources to serve a larger number of individuals.

California Street was forced to change contractors and to perform value engineering due to the high development cost in the current real estate market.

Family Quarters needed additional time to secure secondary financing.

13th Association Properties has been delayed due to the Sponsor/Owner having to secure additional funds for project feasibility.

Lexington Avenue—Site control issues and local opposition have delayed this project and the Sponsor had to seek secondary financing.

Eagle Point—This project experienced delays pertaining to high development costs and secondary financing to perform value engineering.

Florida Street—Delays have been caused by the need to secure secondary financing and to perform value engineering.

Advocates—the project experienced delays as the Sponsor sought additional funds for the project as well as a new contractor.

• Regulation: 24 CFR 891.165.

Project/Activity: Ralston Mercy-Douglass House, Philadelphia, Pa., Project Number 034-EE061/PA26-S961-005. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: January 31, 2000.

Reason Waived: The Initial Closing was delayed in order to allow for the re-negotiation of lease revisions affecting the project.

• Regulation: 24 CFR 891.165.

Project/Activity: Maison de Rayne, Rayne, Louisiana, Project Number: 064-HD040-WPD-NP-L8. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: February 8, 2000.

Reason Waived: Additional time was needed by HUD to complete its processing.

• Regulation: 24 CFR 891.165.

Project/Activity: Greater St. Stephen Manor, New Orleans, Louisiana, Project Number: 064-EE083-WAH-NP-L8. Request for fund reservation extension.

Nature of Requirement: HUD's regulation at 891.165 provides that the duration of the fund reservations for the capital advance is 18 months from the date of issuance with limited exceptions up to 24 months, as approved by HUD on a case-by-case basis.

Granted By: William C. Apgar, Assistant Secretary for Housing-Federal Housing Commissioner

Date Granted: February 8, 2000.

Reason Waived: Delays were due to third party opposition to the project.

• Regulation: 24 CFR 891.165.

Project/Activity: Sumac Trail Apartments, Inc., Rhinelander, Wisconsin, Project Number: 075-HD050/WI39-Q971-001. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 2, 2000.

Reason Waived: The project has experienced delays due to difficulties obtaining State approval of the building plans and working with both the architect and the general contractor to develop the project within the Capital Advance budget.

• Regulation: 24 CFR 891.165.

Project/Activity: East 21st Midwood Residence, New York, NY, Project Number: 012-HD052/NY36-Q961-005. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 2, 2000.

Reason Waived: The project's secondary financing source, the New York State Office of Mental Retardation and Developmental Disabilities has encountered delays in obtaining necessary sign-offs.

• Regulation: 24 CFR 891.165.

Project/Activity: QLS Meadows, Atlanta, Georgia, Project Number: 061-EE053/GA06-S961-007. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 2, 2000.

Reason Waived: Because the seller of the original site increased the price of the site above the appraised value, the Sponsor needed time to find a new site and to prepare new plans and specifications.

• Regulation: 24 CFR 891.165.

Project/Activity: Transitional Learning Community Supportive Housing, Galveston, Texas, Project Number: 114-HDD013/TX24-Q971-001. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 2, 2000.

Reason Waived: This project had to change from the original site. Additional time was needed from the environment's assessment to be completed since the site is in a floodplain.

• Regulation: 24 CFR 891.165.

Project/Activity: Request for fund reservation extension by:

Ailbe III, Chicago, Illinois, Project Number: 071-HD108/IL06-Q971-008; Ozanam Village, Chicago, Illinois, Project Number: 071-EE112/IL06-S961-003;

Ailbe II, Chicago, Illinois, Project Number: 071-EE139/IL06-S971-013;

Victoria Jennings Residences, Chicago, Illinois, Project Number: 071-HD088/IL06-Q961-003.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 2, 2000.

Reason Waived: Ailbe III, Project Number: 071-HD108/IL06-Q971-008—The project experienced delays while the Owner tried to find additional funds for the project.

Ozanam Village, Project Number: 071-EE112/IL06-S961-003—Additional time was needed for HUD to complete firm commitment processing and for the initial closing to be submitted.

Ailbe II, Project Number: 071-EE139/IL06-S971-013—Additional time is needed for HUD to complete firm commitment processing.

Victoria Jennings Residences, Project Number: 071-HD088/IL06-Q961-003—Because all the construction companies bids were significantly higher than the capital advance amount, additional time was needed for the Owner to redesign the project.

• Regulation: 24 CFR 891.165.

Project/Activity: Casa D'Oro II, Pasadena, California, Project Number: 122-HD098. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 2, 2000.

Reason Waived: The delays that this project has experienced in achieving construction startup have been caused by circumstances beyond the Sponsor's control and involved delays in the local government's approval of secondary financing.

• Regulation: 24 CFR 891.165.

Project/Activity: Kaneohe, Oahu, Hawaii, Project Number: 140-EH015-WAH/H110-Q961-003 and HI10-Q971-002. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 8, 2000.

Reason Waived: The project experienced delays due to difficulties in coordinating numerous sources of funding and reviewing legal documents.

• Regulation: 24 CFR 891.165.

Project/Activity: Presbyterian Home at Franklin Township, Franklin Township, NJ, Project Number: 031/EE045/NJ39-S971-002. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 8, 2000.

Reason Waived: The project experienced delays due to obtaining Planning Board approval, getting the utilities extended to the site and overcoming local opposition to this development.

• Regulation: 24 CFR 891.165

Project/Activity: Pathways, Greenwich, Connecticut, Project Number: 017-HD022/CT26-Q981-001. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 8, 2000.

Reason Waived: The projects experienced delays due to neighborhood opposition and in the appeal of an adverse decision by Planning and Zoning.

• Regulation: 24 CFR 891.165.

Project/Activity: Edison Consumer Home, Edison, New Jersey, Project Number: 031-HD081. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 8, 2000.

Reason Waived: The Sponsor/Owner had difficulty securing a site and HUD needs additional time for technical processing.

• Regulation: 24 CFR 891.165.

Project/Activity: Reese Village, San Diego, California, Project Number: 129-HD005/CA33-Q941-003. Request for fund reservation extension.

Nature of Requirement: HUD's regulation at 24 CFR 891.165 provides that the duration of the fund reservations for the capital advance is 18 months from the date of issuance with limited exceptions up to 24 months, as approved by HUD on a case-by-case basis.

Granted By: William C. Apgar, Assistant Secretary for Housing-Federal Housing Commissioner.

Date Granted: March 17, 2000.

Reason Waived: HUD needs time to issue the firm commitment and review the initial closing documents for this project.

• Regulation: 24 CFR 891.310(b)(1).

Project/Activity: Arc HUD IV, Inc., Philadelphia, Pennsylvania, Project Number: 032-D020-WDD/DE26-Q981-002.

Nature of Requirement: HUD's regulation at 24 CFR 891.310(b)(1) provides that all entrances, common areas, units to be occupied by resident staff, and amenities must be readily accessible to and usable by persons with disabilities.

Granted By: William C. Apgar, Assistant Secretary for Housing-Federal Housing Commissioner.

Date Granted: January 3, 2000.

Reason Waived: The Sponsor proposes to make one of the three properties fully accessible to persons with physical disabilities. To make all these projects fully accessible would render the project financially infeasible.

E. For further information about the following waiver actions, contact: Jerold Nachison, Eastern and Atlantic Servicing Branch, Office of Portfolio Management, Office of Housing, Department of Housing and Urban Development, 451 Seventh Street SW, Washington, DC 20410; telephone (202) 708-3730 (this is not a toll free number). Hearing or speech-impaired persons may access this number via TTY by calling the Federal Information Relay Service at 1-800-877-8391.

• Regulation: 24 CFR 891.205 and 891.410(c).

Project/Activity: West Union, Ohio (Mariaview Apartments—Project Number 046-EE037). The Columbus Multifamily Hub requested a waiver for a tenant erroneously admitted to the Section 202/PRAC project. (“PRAC” refers to project rental assistance contract.) The tenant is non-elderly with no disabilities.

Nature of Requirement: HUD regulations in 24 CFR 891.205 and 891.410(c) limit occupancy to very low-income (VLI) elderly persons (i.e., households composed of one or more persons at least one of whom is 62 years of age at time of initial occupancy).

Granted By: William C. Apgar, Assistant Secretary for Housing-Federal Housing Commissioner.

Date Granted: March 3, 2000.

Reason Waived: This waiver of the regulation was granted to be fair with the current ineligible VLI resident and still recognize the purpose and intent of the Supportive Housing for the Elderly Program. Management did not use the 202/PRAC rules and regulations but used the occupancy requirements of the Section 202/8 program for this tenant. These requirements allow a non-elderly disabled person with mobility impairments to live in one of a Section 202/8 project's accessible units. The tenant meets the VLI criterion with an income of $500 per month. The project must remain a 202/PRAC for the elderly and Hub staff must review the project's occupancy plan, tenant selection criteria and management plan and request revision as appropriate for Hub approval. This waiver is restricted to this ineligible tenant and should not be offered to any additional non-elderly or disabled families or elderly families who are not VLI.

• Regulation: 24 CFR 891.575 and 891.610(c).

Project/Activity: Columbia, Mississippi (East Columbia Apartments—Project No. 065-EH024). The Jacksonville Multifamily Hub requested an age waiver for the subject project due to continual vacancy problems.

Nature of Requirement: HUD regulations in 24 CFR 891.575 and 610(c) limit occupancy to very low-income (VLI) elderly persons (i.e., households composed of one or more persons at least one of whom is 62 years of age at time of initial occupancy).

Granted By: William C. Apgar, Assistant Secretary for Housing-Federal Housing Commissioner.

Date Granted: March 8, 2000.

Reason Waived: This waiver was granted based on the area's soft market due to the Department of Agriculture's Rural Housing Services' development of other senior projects in the area. Vacancies persist even though measures such as raising the income ceiling to lower income were instituted. This waiver would allow management additional flexibility in renting up these units through marketing 90% of units that are for elderly persons to persons with or without disabilities between the ages of 52 and 62 for a period of one (1) year.

F. For further information about the following waiver action, contact: Margaret Keels, Eastern and Atlantic Service Branch, Office of Portfolio Management, Office of Housing, Department of Housing and Urban Development, 451 Seventh Street SW, Washington, DC 20410; telephone (202) 708-2654. Hearing and speech-impaired persons may access this number via TTY by calling the Federal Information Relay Service at 1-800-877-8391.

• Regulation: 24 CFR 891.575.

Project/Activity: Lumberton, North Carolina (First Baptist Homes I—Project Number 053-EH471/NC19-T861-087). The Greensboro Multifamily Hub requested an age waiver for the subject project due to high vacancy problems. Management has aggressively marketed its units but are unable to rent up these units.

Nature of Requirement: HUD regulations at 24 CFR 891.575 limit occupancy to very low-income (VLI) elderly persons (i.e., households composed of one or more persons at least one of whom is 62 years of age at time of initial occupancy).

Granted By: William C. Apgar, Assistant Secretary for Housing-Federal Housing Commissioner.

Date Granted: February 17, 2000.

Reason Waived: This waiver was granted based on difficulty in renting up vacant units due to the soft housing market there for persons 62 years of age and older. This waiver would allow project management additional flexibility in attempting to rent up the vacant units for a period of one (1) year.

G. For further information about the following waiver actions, contact: Ronald Wallace, Western and Pacific Servicing Branch, Office of Portfolio Management, Office of Housing, Department of Housing and Urban Development, 451 Seventh Street SW, Washington, DC 20410; telephone (202) 708-2654 (this is not a toll free number). Hearing or speech-impaired persons may access this number via TTY by calling the Federal Information Relay Service at 1-800-877-8391.

• Regulation: 24 CFR 891.575 and 891.610(c).

Project/Activity: Trenton, New Jersey (Cathedral Square—Project Number 035-EH082). The Newark Multifamily Program Center requested an age waiver for the subject project because of vacancy problems due to a soft housing market.

Nature of Requirement: HUD regulations in 24 CFR 891.575 and 891.610(c) limit occupancy to very low-income (VLI) elderly persons (i.e., households composed of one or more persons at least one of whom is 62 years of age at time of initial occupancy).

Granted By: William C. Apgar, Assistant Secretary for Housing-Federal Housing Commissioner.

Date Granted: January 11, 2000.

Reason Waived: This waiver was granted based on the soft housing market and the potential market for persons between the ages 55 and 61 in the City of Trenton. This would allow additional flexibility in attempting to rent up the vacant units. The waiver is granted for a period of one (1) year.

• Regulation: 24 CFR 891.575.

Project/Activity: Pynette, Wisconsin (Pioneer Place I—Project No. 075-EH090). The Milwaukee Multifamily Program Center requested an age waiver for the subject project due to a soft housing market.

Nature of Requirement: HUD regulations at 24 CFR 891.575 limit occupancy to very low-income (VLI) elderly persons (i.e., households composed of one or more persons at least one of whom is 62 years of age at a time of initial occupancy).

Granted By: William C. Apgar, Assistant Secretary for Housing-Federal Housing Commissioner.

Date Granted: January 19, 2000.

Reason Waived: This waiver was granted based on the area's soft housing market resulting in difficulty in renting up vacant units. This waiver would allow project rent up by allowing management additional flexibility by marketing 90% of the units that are set aside for elderly persons to people between the ages of 55 and 62 for a period of one (1) year.

H. For further information about the following waiver action, contact: Richard Harrington, Eastern and Atlantic Servicing Branch, Office of Portfolio Management, Office of Housing, Department of Housing and Urban Development, 451 Seventh Street SW, Washington, DC 20410; telephone (202) 708-2654 (this is not a toll free number). Hearing and speech-impaired persons may access this number via TTY by calling the Federal Information Relay Service at 1-800-877-8391.

• Regulation: 24 CFR 891.575 and 891.610(c).

Project/Activity: Mt. Sterling, Ohio (Meadowview Village—Project Number 043-EH110). The Columbus Multifamily Hub requested an age waiver to allow management additional flexibility in attempting to rent up vacant units. Approval to market units that are for elderly persons to persons with or without disabilities between the ages of 55 and 62 for prescribed period of one (1) year.

Nature of Requirement: HUD regulations in 24 CFR 891.575 and 610(c) limit occupancy to very low-income (VLI) elderly persons (i.e., households composed of one or more persons at least one of whom is 62 years of age at time of initial occupancy).

Granted By: William C. Apgar, Assistant Secretary for Housing-Federal Housing Commissioner.

Date Granted: March 20, 2000.

Reason Waived: This waiver was granted based on constant vacancy problems and over-saturation of elderly housing projects in the area. This waiver would allow project management additional flexibility in attempting to rent up vacant units.

I. For further information about the following waiver action, contact: Jerold Nachison, Eastern and Atlantic Servicing Branch, Office of Portfolio Management, Office of Housing, Department of Housing and Urban Development, 451 Seventh Street SW, Washington, DC 20410; telephone (202) 708-3730 (this is not a toll free number). Hearing or speech-impaired persons may access this number via TTY by calling the Federal Information Relay Service at 1-800-877-8391.

• Regulation: 24 CFR 891.640 and 891.650.

Project/Activity: Kennet, Missouri (Cotton Roll Group Homes—Project Number 085-EH047). The Kansas City Multifamily Hub has requested waiver of the vacancy payments/rent increase process to offset income shortfalls due to changing State law.

Nature of Requirement: HUD regulations in 24 CFR 891.640 and 891.650 require for rent adjustments that the housing assistance payment (HAP) contract provide or has been amended to provide that contracts rents will be adjusted based upon a HUD-approved budget. Contract rent adjustments will be made based on the sum of the project's operating costs and debt service as calculated by HUD. Adjustments for vacancies longer than 60 days—the Borrower may apply to receive additional vacancy payments in an amount equal to the principal and interest payments required to amortize that portion of the debt service attributable to the vacant unit for up top 12 months.

Granted By: William C. Apgar, Assistant Secretary for Housing-Federal Housing Commissioner.

Date Granted: January 3, 2000.

Reason Waived: This waiver was granted to allow vacancy payments above normal approved by the Field Office, retroactive to July 1997. The project was put on notice to reduce operating expenses consistent with the drop in tenants from nine to six, based on changing State law for group homes. The reduction needed to take place within 30 days of the waiver memorandum. The new budget levels were to be consistent with normally allowable costs consistent with a six-person group home, and adjusted as appropriate from July 1997.

III. Regulatory Waivers Granted by the Office of Multifamily Housing Assistance Restructuring (OMHAR)

For further information about the following waiver actions, contact: Dan Sullivan, Office of Multifamily Housing Assistance Restructuring, Department of Housing and Urban Development, Portals Building, Suite 400, 1280 Maryland Avenue, Washington, DC 20410; telephone (202) 708-0001 (this is not a toll-free number). Hearing or speech-impaired persons may access this number via TTY by calling the toll-free Federal Information Relay Service at 1-800-877-8391.

• Regulation: 24 CFR 401.600.

Project/Activity: The following projects requested waivers to the 12 month limit at above-market rents (24 CFR 401.600):

FHA no. | Project name | State
14035071 | Wilikina Apts. | HI
03355032 | Westgate Village II | PA
10538006 | Holly Haven I | UT
07535214 | Euclid Arms | WI
10935025 | Sheridan Square Apts | WY

Nature of Requirement: HUD's regulation at 24 CFR 401.600 requires that projects be marked down to market rents within 12 months of their first expiration date after 1/1/98. The intent of this provision is to ensure timely processing of requests for restructuring, and that the properties will not default on their FHA insured mortgages during the restructuring process.

Granted By: Ira Peppercorn, Director of OMHAR.

Date Granted: January 12, 2000.

Reasons Waived: The attached list of projects were not assigned to the participating administrative entities (PAEs) in a timely manner or for which the restructuring analysis was unavoidably delayed due to no fault of the owner.

• Regulation: 24 CFR 401.600.

Project/Activity: The following projects requested waivers to the 12-month limit at above-market rents (24 CFR 401.600):

FHA no. | Project name | State
17635014 | Executive Estates | AK
17635013 | Parkwest Apartments | AK
08244073 | Summerchase Apts | AR
12244452 | Rodeo Drive Apartments | CA
06535245 | Sunflower Lane Apartments | MS
03444171 | Sherman Hills Apartments | PA
03335083 | Station Square | PA
03344022 | Third East Hills Park | PA
03344087 | Towne Towers | PA
03344059 | Valley Terrace Apts | PA
11494012 | Missionary Village | TX
05135239 | Shawnee II | VA
12738049 | Village Green Apartments | WA
07544106 | Meadow Village Apartments | WI
07535218 | Westport Meadows | WI
04538001 | Riverview Manor | WV

Nature of Requirement: HUD's regulation at 24 CFR 401.600 requires that projects be marked down to market rents within 12 months of their first expiration date after 1/1/98. The intent of this provision is to ensure timely processing of requests for restructuring, and that the properties will not default on their FHA insured mortgages during the restructuring process.

Granted By: Ira Peppercorn, Director of OMHAR.

Date Granted: February 8, 2000.

Reasons Waived: The attached list of projects were not assigned to the PAEs in a timely manner or for which the restructuring analysis was unavoidably delayed due to no fault of the owner.

FHA No. | Project name | State
13644125 | Florin Gardens Coop East | CA
12235609 | Kilgore Manor | CA
12144337 | Kings Canyon | CA
12258508 | New Venice Partners 1D | CA
12258507 | New Venice Partners 2D | CA
06155056 | Martin Luther King Jr | GA
14044027 | Hale Hoaloha | HI
07435110 | Floyd Valley Apartments | IA
07435106 | Valley View of Cherokee | IA
02344134 | Cathedral Hill Apartments | MA
06592502 | Brookville Gardens | MS
06535246 | Moore Manor | MS
03555003 | All American Gardens | NJ
03135124 | Center City 9C | NJ
03135119 | Park Terrace | NJ
01257026 | 1018 Development | NY
01235242 | President Street | NY
01257004 | Riverstone Houses | NY
04335166 | Bellfontaine Manor | OH
04335196 | Lansing Gardens | OH
11744096 | Buena Vista | OK
03444106 | Hillrise Mutual Housing | PA
03435104 | Kephart Plaza | PA
03438009 | Lutheran Manor | PA
05438003 | Hampton House | SC
11444026 | Cedarwood Apartments | TX
11535187 | Woodland Creek | TX
07535138 | Juneau Gardens | WI
07535080 | Sunny Hill Apartments | WI

Nature of Requirement: HUD's regulation at 24 CFR 401.600 requires that projects be marked down to market rents within 12 months of their first expiration date after 1/1/98. The intent of this provision is to ensure timely processing of requests for restructuring, and that the properties will not default on their FHA insured mortgages during the restructuring process.

Granted By: Ira Peppercorn, Director of OMHAR.

Date Granted: March 10, 2000.

Reasons Waived: The attached list of projects were not assigned to the PAEs in a timely manner or for which the restructuring analysis was unavoidably delayed due to no fault of the owner.

• Regulation: 24 CFR 401.600

Project/Activity: The following projects requested waivers to the 12-month limit at above-market rents (24 CFR 401.600):

FHA No. | Project name | State
17635012 | Bayview Terrace | AK
17635015 | KBL Apartments | AK
1755119 | Antillean Manor | CT
09435029 | Prairie View I | ND
04235273 | Ashland Village | OH
04644100 | Miami Manor | OH
03344007 | East Mall | PA
03344142 | Leechburg | PA
03344002 | Penn Circle | PA
17135177 | Hawaiian Village II | WA
17138007 | Kenwood Square | WA

Nature of Requirement: HUD's regulation at 24 CFR 401.600 requires that projects be marked down to market rents within 12 months of their first expiration date after 1/1/98. The intent of this provision is to ensure timely processing of requests for restructuring, and that the properties will not default on their FHA insured mortgages during the restructuring process.

Granted By: Ira Peppercorn, Director of OMHAR.

Date Granted: March 30, 2000.

Reasons Waived: The attached list of projects were not assigned to the PAEs in a timely manner or for which the restructuring analysis was unavoidably delayed due to no fault of the owner.

IV. Regulatory Waivers Granted by the Office of Public and Indian Housing

A. For further information about the following waiver actions, contact: Tracy C. Outlaw, National Office of Native American Programs (ONAP), Office of Public and Indian Housing, Department of Housing and Urban Development, 1999 Broadway, Suite 3390, Denver, CO 80202, telephone (303) 675-1600 (this is not a toll-free number). Hearing or speech-impaired persons may access this number via TTY by calling the toll-free Federal Information Relay Service at 1-800-877-8391.

• Regulation: 24 CFR 761.30(1)(b),(2) and (4)

Project/Activity: A request was made by the Gila River Housing Authority to waive the terms of the grant agreement beyond 24-months for the Public and Indian Housing Drug Elimination Program (PIHDEP). The tribe requested an extension because they did not anticipate extended delays in organizing elders, teachers and traditionalists for certain activities that they wanted to implement.

Nature of Requirement: The regulations state that any funds not expended at the end of the grant term shall be remitted to HUD. The regulations also state that the maximum extension allowable for any program period is six months.

Granted By: Harold Lucas, Assistant Secretary for Public and Indian Housing.

Date Granted: February 4, 2000.

Reason Waived: Based on the narrative justification that was submitted to the Department on behalf of the Gila River Housing Authority and their submission of required documents, good cause was found to waive the extension/grant term requirements of 24 CFR 761.30(1)(b),(2) and (4).

• Regulation: 24 CFR 761.30(1)(b),(2) and (4)

Project/Activity: A request was made by the Reno Sparks Indian Housing Authority (RSIHA) to waive the terms of the grant agreement beyond 24-months for the Public and Indian Housing Drug Elimination Program (PIHDEP). The tribe requested an extension so that they would have additional time to complete an environmental design project to eliminate crime in the RSIHA developments which involved installing wire fencing around three playground areas in the community.

Nature of Requirement: The regulations state that any funds not expended at the end of the grant term shall be remitted to HUD. The regulations also state that the maximum extension allowable for any program period is six months.

Granted By: Harold Lucas, Assistant Secretary for Public and Indian Housing.

Date Granted: February 9, 2000.

Reason Waived: Based on the narrative justification that was submitted to the Deportment on behalf of the Gila River Housing Authority and submission of required documents, good cause was found to waive the extension/grant term requirements of 24 CFR 761.30(1)(b),(2) and (4).

• Regulation: FY 1996 Notice of Funding Availability (NOFA), Economic Development and Supportive Services (EDSS) section (3)(f).

Project/Activity: A request as made by the Cherokee Nation to waive the grant term requirement for the Economic Development and Supportive Services (EDSS) program that all funds must be expended within three years of the effective date of the grant agreement. The Cherokee Nation experienced significant, unexpected delays caused by their proposed partner who needed additional time in obtaining the required community charter approvals for the expansion of the credit union in Tahlequah, Oklahoma. The Cherokee Nation had also proposed in their Indian Housing Plan to use their proceed of sales funds to purchase and renovate the proposed credit union facility, but were informed by the SPONAP that this was an ineligible affordable housing activity.

Nature of Requirement: The grant term requirement for the Economic Development and Supportive Services (EDSS) program, as provided in the Fiscal Year 1996 NOFA, states that all funds must be expended within three years of the effective date of the grant agreement. The language in the NOFA also states that grant terms may not be extended without substantial good cause (circumstances reasonably unforeseen and reasonably beyond the grantee's control) and subject to HUD approval.

Granted By: Harold Lucas, Assistant Secretary for Public and Indian Housing.

Date Granted: March 21, 2000.

Reason Waived: Based on the narrative justification submitted to the Department on behalf of the Cherokee Nation and submission of required documents, good cause was found to waive the grant term requirements stated in the EDSS NOFA.

B. For further information about the following waiver actions, contact Sonia L. Burgos, Director, Community Safety and Conservation Division Department of Housing and Urban Development, Room 4206, 451 Seventh Street, S.W., Washington, DC 20410-5000 (202) 708-1197 (this is not a toll-free number). Hearing or speech-impaired persons may access this number via TTY by calling the toll-free Federal Information Relay Service at 1-800-877-8391.

• Regulation: 24 CFR 761.30(b).

Project/Activity: Waiver of 24 CFR 761.30(b) was requested to extend a 1997 PHDEP Grant for the Lancaster City Housing Authority (LCHA), Pennsylvania.

Nature of Requirement: HUD's regulation at 24 CFR 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: January 20, 2000.

Reason Waived: LCHA's prevention program was delayed while they searched for and hired a new PHDEP contractor and staff for the program. The waiver is for 6 months from the date the grant agreement (HUD-1044) is modified and signed by both parties.

• Regulations: 24 CFR 761.30(b).

Project/Activity: Waiver of 24 CFR 761.30(b) was requested to extend the PHDEP 1997 grant for the Housing Authority of the City of Key West (KWHA), Florida.

Nature of Requirement: HUD's regulation at 24 CFR 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: January 24, 2000.

Reason Waived: Implementation of the PHDEP grant was delayed as a result of litigation surrounding the Campus South educational project. Additionally, the Girls and Boys Club terminated its contract due to the lack of community support and additional operating funds. KWHA plans to utilize the remaining grant funds for the provision of drug prevention activities targeting the youth population.

• Regulation: 24 CFR 761.30(b).

Project/Activity: Waiver of 24 CFR 761.30(b) to extend the PHDEP 1996 grant for Bethlehem Housing Authority (BHA), Bethlehem, Pennsylvania.

Nature of Requirement: HUD's regulation at 24 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: January 29, 2000.

Reason Waived: The BHA is requesting this waiver to expend the remaining PHDEP funds under budget line item 9110 (Reimbursement of Law Enforcement). Due to contractual problems and the loss of essential personnel the BHA encountered delays in the implementation of the PHDEP schedule.

• Regulation: 24 CFR 761.30(b).

Project/Activity: Public Housing Drug Elimination Program (PHDEP) Grant #M128DEP0090197. Waiver of 24 CFR 761.30(b) to extend a 1997 Set-Aside PHDEP grant for Flint Housing Commission (FHC), Flint, Michigan.

Nature of Requirement: HUD's regulation at 24 CFR 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: February 3, 2000.

Reason Waived: FHC experienced problems in obtaining proposals for installation security cameras and security doors. It was necessary to tender a new RFP for additional proposals. FHC expended time to resolve issues before awarding a contract. By the time all this was completed the grant reached termination. FHC has advised that it can complete the activity in 6 months if granted a waiver.

• Regulation: 24 CFR 761.30(b).

Project/Activity: Public Housing Drug Elimination Program (PHDEP) Grant #MI28DEP0090198. Waiver of 24 CFR 761.30(b) was requested to extend a 1998 PHDEP grant for Flint Housing Commission (FHC), Flint, Michigan.

Nature of Requirement: HUD's regulation at 24 CFR 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: February 3, 2000.

Reason Waived: FHC was not able to complete the computer learning center relocation, special programs, and fully fund the security guard services due to the grant funds not being available until January 1999.

• Regulation: 24 CFR 761.30(b).

Project/Activity: Waiver of 24 CFR 761.30(b) was requested to extend the PHDEP 1997 grant for Bethlehem Housing Authority (BHA), Bethlehem, Pennsylvania.

Nature of Requirement: HUD's regulation at 24 CFR 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: February 25, 2000.

Reason Waived: The BHA is requesting this waiver to expend the remaining funds ($97,807) that they were unable to spend because of contractual problems encountered and the loss of essential personnel.

• Regulation: 24 CFR 761.30(b)

Project/Activity: Public Housing Drug Elimination Program (PHDEP) Grant #NM00DEP0090197. Waiver of 24 CFR 761.30(b) was requested to extend the PHDEP 1997 grant for Santa Fe Civic Housing Authority (SCHA), Santa Fe, New Mexico.

Nature of Requirement: Section 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: February 25, 2000

Reason Waived: SCHA experienced numerous turnovers of personnel, which delayed the timely drawdown of PHDEP funds. SCHA also experienced jurisdictional issues between the district and the municipality causing additions delays.

• Regulation: 24 CFR 761.30(b)

Project/Activity: South Charleston Housing Authority, South Charleston, West Virginia. Waiver of 24 CFR 761.30(b) was requested to extend the PHDEP 1998 grant for South Charleston Housing Authority, South Charleston, West Virginia (SCHA).

Nature of Requirement: Section 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: February 28, 2000

Reason Waived: The SCHA requested an extension to their 1998 grant to use PHDEP funds (approximately $7,163.00) to conduct classes at the agency's new on-site computer lab. These classes will enable the adults to enhance their computer skills. Also, school age children will be granted access to the lab for the purpose of preparing reports for class reports for class assignments.

• Regulation: 24 CFR 761.30(b).

Project/Activity: Waiver of 24 CFR 761.30(b) to extend the PHDEP 1997 grant for Delaware State Housing Authority, Delaware County, Pennsylvania.

Nature of Requirement:

Granted By: Harold Lucas, Assistant Secretary for Public and Indian Housing.

Date Granted: February 28, 2000.

Reason Waived: The Delaware State Housing Authority (DSHA) seeks this waiver so that contractors can expend all appropriated PHDEP funds. Since program costs were not as high as anticipated under Law Enforcement they have $6,225 remaining and under Drug Prevention $17,035.99 for an overall total of $23,260.99.

• Regulation: 24 CFR 761.30(b).

Project/Activity: Waiver of 24 CFR 761.30(b) was requested to extend the PHDEP 1997 grant for Providence Housing Authority (PHA), Providence, Rhode Island.

Nature of Requirement: HUD's regulation at 24 CFR 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: March 30, 2000.

Reason Waived: The PHA has achieved substantial cost savings in its FY 1997 PHDEP Program. The unanticipated savings resulted in the PHA making adjustments to its grant activities and delivery of programs. Adding to this is the fact that the PHAs fiscal date is in conflict with the HUD's grant execution date. The grant execution date was in December and the PHA's fiscal date had already started six months prior. This extension will allow for closure of this grant and coincide with the PHA's fiscal year.

C. For further information about the following waiver action, contact: Gerald Benoit, Director, Real Estate and Housing Performance Division, Office of Public and Indian Housing, Department of Housing and Urban Development, Room 4210, 451 Seventh Street, SW., Washington, DC 20410, (202) 708-0477 (this is not a toll-free number). Hearing or speech-impaired persons may access this number via TTY by calling the toll-free Federal Information Relay Service at 1-800-877-8391.

• Regulation: 24 CFR 982.306(d).

Project/Activity: Warren Metropolitan Housing Authority, Ohio, Section 8 voucher program.

Nature of Requirement: The regulation limits the circumstances under which a landlord could lease a unit with tenant-based assistance to a relative of the landlord.

Granted By: Harold Lucas, Assistant Secretary for Public and Indian Housing.

Date Granted: January 27, 2000.

Reason Waived: Approval of the waiver prevented a hard-to-house family that had completed the transitional housing program from becoming homeless by allowing the family to lease a unit from a relative. There were no other units available in the public housing agency's jurisdiction large enough to accommodate the family.

D. For further information about the following waiver actions, contact: Regina McGill, Director, Funding and Financial Management Division, Office of Public and Assisted Housing Delivery, Office of Public and Indian Housing, Department of Housing and Urban Development, Room 4216, 451 Seventh Street, SW., Washington, DC 20410, (202) 708-1872 (this is not a toll-free number). Hearing or speech-impaired persons may access this number via TTY by calling the toll-free Federal Information Relay Service at 1-800-877-8391.

• Regulation: 24 CFR 990.107(f) and 990.109.

Project/Activity: Housing Authority of the County of Kern, CA. A request was made to permit the Authority to benefit from energy performance contracting for developments which have tenant-paid utilities. The HA estimates that it could increase savings substantially if it were able to undertake energy performance contracting for both PHA-paid and tenant-paid utilities.

Nature of Requirement: Under 24 CFR part 990, Performance Funding System (PFS) energy conservation incentive that relates to energy performance contracting currently applies to only PHA-paid utilities. The Housing Authority of the County of Kern has both PHA-paid and tenant-paid utilities.

Granted By: Harold Lucas, Assistant Secretary for Public and Indian Housing.

Date Granted: February 2, 2000.

Reason Waived: In September 1996, the Oakland Housing Authority was granted a waiver to permit the Authority to benefit from energy performance contracting for developments with tenant-paid utilities. The waiver was granted on the basis that the Authority presented a sound and reasonable methodology for doing so. The Housing Authority of the County of Kern requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

• Regulation: 24 CFR 990.107(f) and 990.109.

Project/Activity: Housing Authority of the County of Kern, CA. A request was made to permit the Authority to benefit from energy performance contracting for developments which have tenant-paid utilities. The HA estimates that it could increase savings substantially if it were able to undertake energy performance contracting for both PHA-paid and tenant-paid utilities.

Nature of Requirement: Under 24 CFR part 990, Performance Funding System (PFS) energy conservation incentive that relates to energy performance contracting currently applies to only PHA-paid utilities. The Housing Authority of the County of Kern has both PHA-paid and tenant-paid utilities.

Granted By: Harold Lucas, Assistant Secretary for Public and Indian Housing.

Date Granted: February 2, 2000.

Reason Waived: In September 1996, the Oakland Housing Authority was granted a waiver to permit the Authority to benefit from energy performance contracting for developments with tenant-paid utilities. The waiver was granted on the basis that the Authority presented a sound and reasonable methodology for doing so. The Housing Authority of the County of Kern requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

• Regulation: 24 CFR 990.107(f) and 990.109.

Project/Activity: Housing Authority of Conway, South Carolina. A request was made to permit the Authority to benefit from energy performance contracting for developments which have tenant-paid utilities. The HA estimates that it could increase savings substantially if it were able to undertake energy performance contracting for both PHA-paid and tenant-paid utilities.

Nature of Requirement: Under 24 CFR 990, Performance Funding System (PFS) energy conservation incentive that relates to energy performance contracting currently applies to only PHA-paid utilities. The Housing Authority of Conway has both PHA-paid and tenant-paid utilities.

Granted By: Harold Lucas, Assistant Secretary for Public and Indian Housing.

Date Granted: March 8, 2000.

Reason Waived: In September 1996, the Oakland Housing Authority was granted a waiver to permit the Authority to benefit from energy performance contracting for developments with tenant-paid utilities. The waiver was granted on the basis that the Authority presented a sound and reasonable methodology for doing so. The Housing Authority of Conway requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

[FR Doc. 00-18163 Filed 7-18-00; 8:45 am]

BILLING CODE 4210-32-P